DEPARTMENT OF STATE

[Public Notice 11399]

Notice of Public Meeting in Preparation for the International Maritime Organization FAL 45 Meeting

The Department of State will conduct a public meeting at 9:00 a.m. on Tuesday, May 25, 2021, by way of teleconference. The primary purpose of this meeting is to prepare for the forty fifth session of the International Maritime Organization's (IMO) Facilitation Committee (FAL 45) to be held virtually from Tuesday, June 1, to Friday, June 4, 2021, and on Monday, June 7, 2021. Members of the public may participate up to the capacity of the teleconference phone line, which will handle 500 participants. To access the teleconference line, participants should call (202) 475-4000 and use Participant Code: 115 550 18#.

The agenda items to be considered at FAL 45 include:

—Decisions of other IMO bodies

—Consideration and adoption of proposed amendments to the Convention

—Review and update of the annex of the FAL Convention

—Application of single-window concept

—Review and revision of the IMO Compendium on Facilitation and Electronic Business, including additional e-business solutions

—Developing guidance for authentication, integrity and confidentiality of content for the purpose of exchange via a maritime single window

—Consideration of descriptions of Maritime Services in the context of e-navigation

—Development of guidelines for harmonized communication and electronic exchange of operational data

—Development of amendments to the Recommendations on the establishment of National Facilitation Committees (FAL.5/Circ.2)

— Developments of guidelines on creating a tool to measure domestic implementation of the FAL Convention

—Unsafe mixed migration by sea

—Consideration and analysis of reports and information on persons rescued at sea and stowaways

—Guidance to address maritime corruption

—Regulatory scoping exercise for the use of Maritime Autonomous Surface Ships (MASS)

—Technical cooperation activities related to facilitation of maritime traffic relations with other organizations

—Application of the Committee's procedures on organization and method of work

—Work program

—Any other business

Please note: the IMO may adjust the FAL 45 agenda to accommodate the constraints associated with the virtual meeting format. Any changes to the agenda will be notified to those who RSVP and to those in attendance at the meeting.

Those who plan to participate may contact the meeting coordinator, Mr. James Bull, by email at James.T.Bull@uscg.mil, by phone at (202) 372-1144, or in writing at 2703 Martin Luther King Jr. Ave. SE Stop 7509, Washington, DC 20593-7509 prior to the meeting with any questions. Members of the public needing reasonable accommodation should advise Mr. Bull not later than May 18, 2021. Requests made after that date will be considered, but might not be possible to fulfill.

Additional information regarding this and other IMO public meetings may be found at: https://www.dco.uscg.mil/IMO.

Jeremy M. Greenwood,
Coast Guard Liaison Officer, Office of Ocean and Polar Affairs, Department of State.

[FR Doc. 2021-07411 Filed 4-9-21; 8:45 am]

BILLING CODE 4710-09-P